FEDERAL COMMUNICATIONS COMMISSION

[DA 09-1487]

Commencement of Digital Licensing for Low Power Television and TV Translators Beginning August 25, 2009 for Rural Areas and January 25, 2010 Nationwide

AGENCY: Federal Communications Commission.

ACTION: Notice.

SUMMARY: In this document, the Video Division of the Media Bureau announces that it will permit the filing of applications for new digital-only LPTV and TV translator stations, for major changes to existing analog and digital LPTV and TV translator facilities in those areas, and, in the case of incumbent analog stations, for digital companion channels on August 25, 2009 in rural areas and January 25, 2010 nationwide. No applications for new analog facilities will be accepted.

DATES: Applications will begin to be accepted August 25, 2009, subject to a geographic restriction, and without geographic restriction on January 25, 2010.

FOR FURTHER INFORMATION CONTACT: Shaun Maher (legal) or Hossein Hashemzadeh (technical) of the Video Division, Media Bureau, at (202) 418-1600.

SUPPLEMENTARY INFORMATION: Beginning August 25, 2009, all interested parties including incumbent LPTV and TV translator stations, may begin filing applications for new digital-only LPTV and TV translator stations, for major changes to existing analog and digital facilities and, in the case of incumbent analog stations, for digital companion channels, where such applications specify transmitting antenna site coordinates (geographic latitude and longitude) located more than 121 kilometers (75 miles) from the reference coordinates of the cities listed in 47 CFR 76.53 of the Commission's Rules. These applications will be filed on a first-come, first-served basis and will be “cut-off” daily.

Beginning January 25, 2010, all interested parties, including incumbent LPTV and TV translator stations, may begin filing applications for new digital-only LPTV and TV translator stations, for major changes to existing analog and digital LPTV and TV translator stations, and, in the case of incumbent analog stations, for digital companion channels without geographic restriction. Such applications will be filed on a first-come, first-served basis and will be “cut-off” daily.

All applications for new digital-only LPTV and TV translator stations or for major changes to existing digital or analog LPTV and TV translator stations are subject to a $705.00 filing fee. There is no application filing fee for the submission of flash-cut or digital companion channel applications or for applications for replacement digital translator stations as these applications are for minor changes. Applicants must file their applications electronically using FCC Form 346. Paper-filed applications will not be accepted. Instructions for use of the electronic filing system are available in the CDBS User's Guide, which can be accessed from the electronic filing Web site at: http://www.fcc.gov/mb/cdbs.html. For assistance with electronic filing, call the Media Bureau Help Desk at (202) 418-26MB (418-2662). Additional important reminders concerning the filing of applications were included in the Public Notice.

Paperwork Reduction Act Approval: The FCC Form 346 was assigned control number 3060-0016 and was approved by the Office of Management and Budget (OMB) on March 27, 2008.

Federal Communications Commission.
Barbara Kreisman,
Chief, Video Division, Media Bureau.

[FR Doc. E9-16485 Filed 7-10-09; 8:45 am]

BILLING CODE 6712-01-P